DEPARTMENT OF COMMERCE

International Trade Administration

[A-570-846]

Notice of Amended Preliminary Results of the Seventh New Shipper Review: Brake Rotors from the People's Republic of China

AGENCY: Import Administration, International Trade Administration, U.S. Department of Commerce.

ACTION: Notice of Amended Preliminary Results of the Seventh New Shipper Review.

EFFECTIVE DATE: February 5, 2003.

FOR FURTHER INFORMATION CONTACT: Terre Keaton or Brian Smith, Import Administration, International Trade Administration, U.S. Department of Commerce, 14th Street and Constitution Avenue, NW, Washington, DC 20230; telephone: (202) 482-1280 or (202) 482-1766, respectively.

SUPPLEMENTARY INFORMATION:

Amended Preliminary Results

We are amending the preliminary results of the seventh new shipper review of the antidumping duty order on brake rotors from the People's Republic of China (“PRC”) to reflect a revision to the cash deposit requirements for the two companies subject to this review.

Case History

On January 8, 2003, the Department published the preliminary results of the seventh new shipper review of brake rotors from the PRC (68 FR 1031) (“preliminary results”)¹. In the preliminary results, we failed to state accurately the cash deposit requirements for Zibo Golden Harvest Machinery Limited Company (“Golden Harvest”) and Shanxi Fengkun Metallurgical Ltd. Co. (“Shanxi Fengkun”), the two respondents in the seventh new shipper review, as explained further below.

¹ The preliminary results for the seventh new shipper review of the antidumping duty order on brake rotors from the PRC were issued concurrently with those of the fifth administrative review of the order.

Amendment of Preliminary Results

We are amending the preliminary results of the seventh new shipper review of brake rotors from the PRC to reflect a revision to the cash deposit requirements for new shippers in accordance with our recent practice. See Final Results of the Antidumping Duty New Shipper Review in Fresh Garlic From the People's Republic of China, 67 FR 72139 (December 4, 2002); Final Results of Antidumping Duty New Shipper Review in Certain Forged Stainless Steel Flanges From India, 68 FR 351 (January 3, 2003); and Final Results of the Antidumping Duty New Shipper Review in Certain In-Shell Raw Pistachios From Iran, 68 FR 353 (January 3, 2003). Specifically, bonding will no longer be permitted to fulfill security requirements for shipments from Golden Harvest or Shanxi Fengkun of brake rotors from the PRC entered, or withdrawn from warehouse, for consumption on or after the publication date of the final results of the new shipper review. Furthermore, the following cash deposit requirements will be effective upon publication of the final results of the new shipper review for all shipments from Golden Harvest or Shanxi Fengkun of subject merchandise entered, or withdrawn from warehouse, for consumption on or after the publication date: (1) for subject merchandise manufactured and exported by Golden Harvest, and for subject merchandise manufactured and exported by Shanxi Fengkun, no cash deposit will be required; (2) for subject merchandise exported by either Golden Harvest or Shanxi Fengkun but not manufactured by them the cash deposit will be the PRC countrywide rate (i.e., 43.32 percent). All other cash deposit requirements noted in the preliminary results remain unchanged. We are issuing and publishing these amended preliminary results and this notice in accordance with section 751(a)(2)(B) of the Tariff Act of 1930, as amended.

Dated: January 29, 2003.
Bernard T. Carreau,
Acting Assistant Secretary for Import Administration.

[FR Doc. 03-2793 Filed 2-4-03; 8:45 am]

BILLING CODE 3510-DS-S